DEPARTMENT OF TRANSPORTATION

Research and Special Programs Administration (RSPA)

[Docket No. RSPA-98-4470]

Pipeline Safety: Meetings of the Pipeline Safety Advisory Committee

AGENCY: Office of Pipeline Safety, Research and Special Programs Administration, DOT.

ACTION: Notice, correction.

SUMMARY: In the Federal Register Notice of May 1, 2003, (68 FR 23357) the Research and Special Programs Administration's Office of Pipeline Safety (OPS) published a notice document regarding a meeting of the Technical Pipeline Safety Standards Committee. The DATES section of this notice should be corrected to read as follows:

DATES: The meetings will be held on Wednesday, May 28 from 1:30 p.m. to 5 p.m., Thursday, May 29 from 9 a.m. to 5 p.m., and Friday, May 30 from 9 a.m. to 4 p.m.

EFFECTIVE DATE: This correction takes effect May 1, 2003.

FOR FURTHER INFORMATION CONTACT: Cheryl Whetsel, OPS, (202) 366-4431, or Richard Huriaux, OPS, (202) 366-4565.

Issued in Washington, DC on May 6, 2003.
Stacey L. Gerard,
Associate Administrator for Pipeline Safety.

[FR Doc. 03-11779 Filed 5-12-03; 8:45 am]

BILLING CODE 4910-60-U